DEPARTMENT OF LABOR

Office of the Secretary

Agency Information Collection Activities; Submission for OMB Review; Comment Request; Form 5500, Annual Return/Report of Employee Benefit Plan

ACTION: Notice.

SUMMARY: The Department of Labor (DOL) hereby announces the submission of the information collection request (ICR) sponsored by the Employee Benefits Security Administration (EBSA) titled, “Annual Information Return/Report of Employee Benefit Plan,” to the Office of Management and Budget (OMB) for review and approval for continued use in accordance with the Paperwork Reduction Act of 1995 (Pub. L. 104-13, 44 U.S.C. chapter 35).

DATES: Submit comments on or before October 25, 2010.

ADDRESSES: A copy of this ICR, with applicable supporting documentation; including a description of the likely respondents, proposed frequency of response, and estimated total burden may be obtained from the RegInfo.gov Web site, http://www.reginfo.gov/public/do/PRAMain or by contacting Michel Smyth by telephone at 202-693-4129 (this is not a toll-free number) or sending an email to DOL_PRA_PUBLIC@dol.gov.

Submit comments about this request to the Office of Information and Regulatory Affairs, Attn: OMB Desk Officer for the Employee Benefits Security Administration, Office of Management and Budget, Room 10235, Washington, DC 20503, Telephone: 202-395-6929/Fax: 202-395-6974 (these are not toll-free numbers), email: OIRA_submission@omb.eop.gov.

FOR FURTHER INFORMATION CONTACT: Michel Smyth by telephone at 202-693-4129 (this is not a toll-free number) or by e-mail at DOL_PRA_PUBLIC@dol.gov.

SUPPLEMENTARY INFORMATION: The “Annual Return/Report of Employee Benefit Plan,” Form 5500, is the primary source of information concerning the operation, funding, assets and investments of pension and other employee benefit plans. In addition to being an important disclosure document for plan participants and beneficiaries, Form 5500 is a compliance and research tool for the EBSA, Pension Benefit Guaranty Corporation, and Internal Revenue Service. It is also a source of information for use by other Federal agencies, Congress, and the private sector in assessing employee benefit, tax, and economic trends and policies.

Form 5500 constitutes an information collection within the meaning of the PRA. Generally, an agency may not conduct or sponsor, and a person is not required to respond to, a collection of information unless it displays a currently valid OMB control number. The DOL obtains OMB approval for this information collection under OMB Control Number 1210-0110. The current OMB approval is scheduled to expire on September 30, 2010, and the DOL is seeking OMB approval to continue this information collection. For additional information, see the related notice published in the Federal Register on June 23, 2010 (75 FR 35843).

Interested parties are encouraged to send comments to the OMB, Office of Information and Regulatory Affairs at the address shown in the ADDRESSES section within 30 days of publication of this notice in the Federal Register. In order to ensure the appropriate consideration, comments should reference OMB Control Number 1210-0110. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension without change of currently approved collection.

Title of Collection: Annual Return/Report of Employee Benefit Plan.

Form Numbers: Form 5500 and 5500-SF.

OMB Control Number: 1210-0110.

Affected Public: Business or other for-profit; not-for-profit institutions.

Total Estimated Number of Respondents: 780,000.

Total Estimated Number of Responses: 780,000.

Total Estimated Annual Burden Hours: 530,000.

Total Estimated Annual Costs Burden: $178,000,000.

Dated: September 20, 2010.
Michel Smyth,
Departmental Clearance Officer.

[FR Doc. 2010-23973 Filed 9-23-10; 8:45 am]

BILLING CODE 4510-29-P